DEPARTMENT OF LABOR

Mine Safety and Health Administration

[OMB Control No. 1219-0007]

Proposed Extension of Information Collection; Mine Accident, Injury, and Illness Report and Quarterly Mine Employment and Coal Production Report

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection regarding Mine Accident, Injury, and Illness Report and Quarterly Mine Employment and Coal Production Report.

DATES: All comments must be received on or before November 20, 2023.

ADDRESSES: Comments concerning the information collection requirements of this notice may be sent by any of the methods listed below. Please note that late, untimely filed comments will not be considered.

• Federal E-Rulemaking Portal: http://www.regulations.gov. Follow the on-line instructions for submitting comments for docket number MSHA-2023-0044.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977 (Mine Act), Public Law 95-164 as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal and metal and nonmetal mines.

The reporting and recordkeeping provisions in 30 CFR 50, Notification, Investigation, Reports and Records of Accidents, Injuries and Illnesses, Employment and Coal Production in Mines, are essential elements in MSHA's statutory mandate to reduce work-related injuries and illnesses among the nation's miners (30 U.S.C. 801). Part 50 of 30 CFR applies to operators of coal, metal, and nonmetal mines. It requires operators to immediately notify MSHA of accidents, investigate accidents and restrict disturbance of accident-related areas. This part also requires operators to file reports with MSHA pertaining to accidents, occupational injuries, and occupational illnesses, as well as employment and coal production data. This part also requires operators to maintain copies of reports at mine offices.

30 CFR 50.2 defines operators as (1) any owner, lessee, or other person who operates, controls, or supervises a coal mine; or (2) the person, partnership, association, or corporation, or subsidiary of a corporation operating a metal or nonmetal mine, and owning the right to do so, and includes any agent thereof charged with responsibility for the operation of such mine.

1. Notification, Investigation, Preservation of Evidence

Section 103(j) of the Mine Act, 30 U.S.C. 813(j), requires operators to notify MSHA of the occurrence of an accident and to take appropriate measures to preserve any evidence that would assist in the investigation into the causes of the accident. 30 CFR 50.10 requires mine operators and independent contractors to immediately notify MSHA in the event of an accident. This immediate notification is critical to MSHA's timely investigation and assessment of the cause of the accident.

Section 103(d) of the Mine Act, 30 U.S.C. 813(d), mandates that each accident must be investigated by the operator to determine the cause and means of preventing a recurrence. 30 CFR 50.11 requires the mine operator or independent contractor to investigate each accident and occupational injury and prepare a report. The mine operator or independent contractor may not use MSHA Form 7000-1 as the investigation report, except if the operator or independent contractor employs fewer than 20 miners and the injury is not related to an accident.

2. Reporting of Accidents, Injuries, and Illnesses

30 CFR 50.20 requires mine operators and independent contractors to report each accident, injury, and illness to MSHA on MSHA Form 7000-1 within 10 working days after an accident or injury has occurred or an occupational illness has been diagnosed. The use of MSHA Form 7000-1 provides for uniform information gathering across the mining industry, with specific criteria and instructions defined in 30 CFR 50.20-2 through 50.20-7.

3. Quarterly Employment and Coal Production Report

30 CFR 50.30 requires that all mine operators and independent contractors working on mine property report employment to MSHA quarterly on MSHA Form 7000-2 within 15 days after the end of each calendar quarter. Each coal mine operators or independent contractor is also required to report coal production on MSHA Form 7000-2. 30 CFR 50.30-1 provides instructions for completing MSHA Form 7000-2.

4. Record Maintenance

Section 103(h) of the Mine Act, 30 U.S.C. 813(h), requires operators to keep any records and make any reports that are reasonably necessary for MSHA to perform its duties under the Mine Act. Operators must keep records of such accidents and investigations and make them available to the Secretary or the Secretary's authorized representative and the appropriate State agency. 30 CFR 50.40 requires each mine operator or independent contractor to maintain a copy of each investigation report prepared under section 50.11 or 50.20 or 50.30 at the mine office for five years.

II. Desired Focus of Comments

MSHA is soliciting comments concerning the proposed information collection related to Mine Accident, Injury, and Illness Report and Quarterly Mine Employment and Coal Production Report. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This information collection request concerns provisions for Mine Accident, Injury, and Illness Report and Quarterly Mine Employment and Coal Production Report. MSHA has updated the data with respect to the number of respondents, responses, burden hours, and burden costs supporting this information collection request from the previous information collection request.

Type of Review: Extension, without change, of a currently approved collection.

Agency: Mine Safety and Health Administration.

OMB Number: 1219-0007.

Affected Public: Business or other for-profit.

Number of Annual Respondents: 20,953.

Frequency: On occasion.

Number of Annual Responses: 98,389.

Annual Burden Hours: 117,903 hours.

Annual Respondent or Recordkeeper Cost: $3,009.

MSHA Forms: MSHA Form 7000-1, Mine Accident, Injury, and Illness Report; MSHA Form 7000-2, Quarterly Mine Employment and Coal Production Report.

Comments submitted in response to this notice will be summarized and included in the request for Office of Management and Budget approval of the proposed information collection request; they will become a matter of public record and will be available at https://www.reginfo.gov.

Song-ae Aromie Noe,
Certifying Officer, Mine Safety and Health Administration.

[FR Doc. 2023-20394 Filed 9-20-23; 8:45 am]

BILLING CODE 4520-43-P